DEPARTMENT OF LABOR

Veterans' Employment and Training Service

Office of the Assistant Secretary for Veterans' Employment and Training; the Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The ACVETEO's authority is codified in Title 38 U.S. Code, Section 4110.

The ACVETEO is responsible for assessing employment and training needs of veterans; determining the extent to which the programs and activities of the Department of Labor met these needs; and assisting in carrying out outreach to employers seeking to hire veterans.

The Advisory Committee on Veterans' Employment Training and Employer Outreach will meet on Thursday, November 15th from 8 a.m. to 4 p.m. at the OSI Restaurant Partners, LLC, 2202 N. Westshore Boulevard, Corporate Center One Building, 5th Floor, Tampa, Florida 33607.

The committee will discuss programs assisting veterans seeking employment and raising employer awareness as to the advantages of hiring veterans. Individuals needing special accommodations should notify Bill Offutt at (202) 693-4717 by November 9th, 2007.

Signed in Washington, DC, this 10th day of October 2007.
John M. McWilliam,
Deputy Assistant Secretary, Veterans' Employment and Training.

[FR Doc. E7-20337 Filed 10-15-07; 8:45 am]

BILLING CODE 4510-79-P